DEPARTMENT OF DEFENSE

Office of the Secretary

Closed Meeting of the Board of Visitors for the Department of Defense Centers for Regional Security Studies

AGENCY: Office of the Secretary, Department of Defense.

ACTION: Notice of closed meeting.

SUMMARY: Under the provisions of Public Law 92-463, the “Federal Advisory Committee Act,” notice of a meeting of the Board of Visitors for Department of Defense Centers for Regional Security must be published.

The Board will meet in closed session at the Pentagon on April 26 from 0900 to 1330.

The purpose of the meeting is to allow the Board of Visitors to provide advice on the role the Centers for Regional Security play in the broader U.S. national security context. The Board will hold classified discussions on various national security policies to be handled by the regional centers as outlined in the Defense Planning Guidance and related to the Theater Engagement Plans of the Commanders-in-Chief of the Unified Commands. This notice is being published less than fifteen days prior to the meeting because of a scheduling oversight.

In accordance with Section 10(d) of the Federal Advisory Committee Act, Public Law No. 92-463, as amended [5 U.S.C. App. II (1982)], it has been determined that this meeting concerns matters listed in 5 U.S.C. § 552b(c)(1)(1982), and that accordingly this meeting will be closed to the public.

FOR FURTHER INFORMATION CONTACT: John Berry, (703) 695-6386.

Dated: April 18, 2000.
L.M. Bynum,
Alternate OSD Federal Register Liaison Officer, Department of Defense.

[FR Doc. 00-10573 Filed 4-27-00; 8:45 am]

BILLING CODE 5000-10-M